Proclamation 10734 of April 26, 2024

Workers Memorial Day, 2024

By the President of the United States of America

A Proclamation

A job is about more than a paycheck—it is about dignity and respect. Our Nation's workers built this country, and we need to have their backs. On the most basic level, that means every worker in this Nation deserves to be safe on the job. Too many still risk their lives or well-being in unsafe work conditions or dangerous roles. On Workers Memorial Day, we honor our fallen and injured workers and recommit to making sure every worker has the peace of mind of knowing that they are protected at work and can return home safe to their families every night.

I am proud to be the most pro-labor President in history, and from day one, my Administration has fought to make workplaces safer and fairer. Our American Rescue Plan invested $200 million into keeping workers safe during the pandemic and guaranteeing that workers had sick leave available if they got COVID-19. We also used the full power of the Defense Production Act to deliver personal protective equipment to workers who needed it. We vaccinated 230 million Americans so they could return to offices, stores, factory floors, and more without worrying about their health.

Strong unions are at the core of all of this work. Every major law that protects workers' safety passed because unions fought for it. That is why, as my Administration makes the biggest investment in our Nation's infrastructure in generations, we are also incentivizing companies to hire union workers, pay prevailing wages, and support pre-apprenticeships and Registered Apprenticeships that help workers learn how to safely do the job. At the same time, my Administration finalized a rule requiring Project Labor Agreements for most large-scale Federal construction projects, helping ensure these projects are completed safely, efficiently, and on time.

I am proud of my work standing up for unions, from being the first sitting President to walk a picket line to nominating union advocates to the National Labor Relations Board, which has helped protect the right to organize. I also signed Executive Orders restoring and expanding collective bargaining rights for the Federal workforce, and I re-established labor-management forums at Federal agencies to ensure Federal workers on the job are heard. I signed the Butch Lewis Act, protecting the pensions that millions of Americans worked their whole lives for. I have expanded coverage through the Affordable Care Act and slashed prescription drug prices, making health care more affordable for millions of working families.

At the same time, the Department of Labor has also made it easier for whistleblowers to report unsafe working conditions, regardless of their immigration status, and are hiring and training hundreds of workplace inspectors to ensure employers are meeting health and safety requirements. Last year, my Administration issued the first-ever heat Hazard Alert to protect millions of farm, construction, and other workers who spend their days outside in increasingly extreme heat. We also finalized a new rule to limit miners' exposure to toxic silica dust—protecting more than 250,000 from its harmful effects. The Department of Labor has also ramped up the enforcement of heat-safety rules, conducting more than 4,000 heat inspections in the past 2 years. They have also completed over 65,000 workplace safety and health inspections since 2022, helping keep workers in high-risk industries safe. Further, my Administration published a rule that allows workers to choose a representative to accompany an Occupational Safety and Health Administration official during a workplace inspection, ensuring workers are being heard. The Department of Labor is working to develop a national standard to protect indoor and outdoor workers from extreme heat that can be hazardous to their health.

We are also fighting for the courageous first responders who routinely run toward danger to protect the rest of us. The Department of Labor proposed a rule that would strengthen safety standards for emergency responder equipment, training, and vehicle operations for the first time in more than 40 years. These new standards would transform many current industry best practices to requirements and could prevent thousands of injuries for more than one million brave first responders across the country. I was also proud to sign the Federal Firefighters Fairness Act, which boosted pay for over 10,000 Federal firefighters to help recruit more to the job, because I know that nothing keeps firefighters safe like more firefighters. We are also committed to protecting firefighters from the harmful effects of toxic “forever chemicals”, which are still too often found in firefighting equipment and fire suppression agents. I signed legislation extending the Public Safety Officers' Benefits Program to firefighters who are permanently disabled and to families of firefighters who die after experiencing trauma like PTSD—it will not bring their loved ones back, but we owe them.

Today, our Nation is in the midst of a great comeback. Our economy is growing, wages are rising, and inflation is down. We have created a record 15 million jobs. On Workers Memorial Day, we recommit to making sure that every worker in this country is safe on the job. We honor those who lost their lives or have been injured on the job; we stand by their families; and we stand with the labor unions that are fighting to guarantee every worker safety, dignity, and respect.

NOW, THEREFORE, I, JOSEPH R. BIDEN JR., President of the United States of America, by virtue of the authority vested in me by the Constitution and the laws of the United States, do hereby proclaim April 28, 2024, as Workers Memorial Day. I call upon all Americans to observe this day with appropriate service, community, and education programs and ceremonies in memory of those killed or injured due to unsafe working conditions.

IN WITNESS WHEREOF, I have hereunto set my hand this twenty-sixth day of April, in the year of our Lord two thousand twenty-four, and of the Independence of the United States of America the two hundred and forty-eighth.

[FR Doc. 2024-09552

Filed 4-30-24; 8:45 am]

Billing code 3395-F4-P